DEPARTMENT OF JUSTICE

Office of Justice Programs

[OJP (OJP) Docket No. 1390]

Meeting of the Public Safety Officer Medal of Valor Review Board

AGENCY: Office of Justice Programs, Justice.

ACTION: Notice of meeting.

SUMMARY: This is an announcement of a meeting of the Public Safety Officer Medal of Valor Review Board to review and discuss recommendations for the 2003 Public Safety Officer Medal of Valor.

DATES: The meeting will take place on Wednesday, October 29, 2003, from 9 a.m. to 5 p.m. E.S.T.

ADDRESSES: The meeting will take place at the Embassy Suites Hotel O'Hare-Rosemont in Rosemont, Illinois, 5500 North River Road, Rosemont, Illinois.

FOR FURTHER INFORMATION, CONTACT: Tracy A. Henke, Principal Deputy Assistant Attorney General, Office of Justice Programs, 810 7th Street NW., Sixth Floor, Washington, DC 20531; Phone: (202) 307-5933 (note: this not a toll free number).

Meeting Format: This meeting will be held according to the following schedule:

Date: Wednesday, October 29, 2003.

Time: 9 a.m.-5 p.m.; including breaks.

SUPPLEMENTARY INFORMATION: This meeting will be open to the public and registrations will be accepted on a space available basis. Members of the public who wish to attend the meeting must register at least seven (7) days in advance of the meeting by contacting Ms. Henke at the above address. Access to the meeting will not be allowed without prior registration. All attendees will be required to sign in at the meeting registration desk. Please bring photo identification and allow extra time prior to the meeting. Anyone requiring special accommodations should contact Ms. Henke at least seven (7) days in advance of the meeting.

Authority: The Public Safety Officer Medal of Valor Review Board is authorized to carry out its advisory function under 42 U.S.C. section 15202. 42 U.S.C. section 15201 authorizes the President to award the Public Safety Officer Medal of Valor, the highest national award for valor by a public safety officer.

Tracy A. Henke,
Principal Deputy Assistant Attorney General, Office of Justice Programs.

[FR Doc. 03-26648 Filed 10-21-03; 8:45 am]

BILLING CODE 4410-18-P